Title 3—

The President

Proclamation 10608 of August 25, 2023

Overdose Awareness Week, 2023

By the President of the United States of America

A Proclamation

The overdose epidemic is a national crisis, and for millions of Americans, it is personal. Too many families have lost their children, siblings, parents, and friends to substance misuse and overdose. Every loss is a painful reminder that we must take bold action to end our Nation's overdose epidemic. During Overdose Awareness Week, we reaffirm our commitment to beating this public health and public safety epidemic—in memory of all those we have lost and to protect all the lives we can still save.

People with substance use disorder face too many barriers to treatment. And while synthetic opioids, like illicitly produced fentanyl, are driving the majority of overdose deaths today and perpetuating addiction, we know that prevention and recovery are possible if people get the support and treatment they need. That's why my Administration established a National Drug Control Strategy that goes after two major drivers of the overdose epidemic: untreated addiction and drug trafficking.

My Administration has worked hard to ensure that substance use disorder is treated like any other disease, funding the expansion of prevention, treatment, harm reduction, and recovery support services. As a part of my Unity Agenda, we passed a law making it easier for doctors to prescribe effective treatments, leading to an unprecedented and historic expansion that finally put help within reach for millions of Americans.

Through the American Rescue Plan, we delivered more than $5 billion to strengthen and expand State and community mental health and substance use disorder services. We also addressed the mental health of frontline workers, like nurses, who are dealing with this crisis every day, by directing $103 million specifically to meet their needs. And my Bipartisan Safer Communities Act went even further—providing billions of dollars to improve mental health services for young people, including hiring and training more school mental health counselors so young people get the care they need.

We continue to fight the stigmatization that surrounds substance use disorder so people feel comfortable reaching out for help when they need it. The Food and Drug Administration approved two Naloxone products—an opioid overdose reversal medication—for over-the-counter use. Now, every American will be able to access this life-saving medication. And our new National Response Plan to address the deadly combination of fentanyl mixed with xylazine coordinates efforts across all of government to confront this dangerous emerging threat.

My Administration is also disrupting the flow of illicit drugs by making it costlier to bring killer drugs into America; going after drug traffickers' profits; and targeting their financial networks, supply chains, and delivery routes, including on the internet. We have strengthened coordination and information sharing among our intelligence and domestic law enforcement agencies to dismantle drug traffickers and their networks. So far, my Administration has seized more than 1.6 million pounds of drugs before they crossed the border and entered into our communities, including over 42,500 pounds of illicitly manufactured fentanyl. And we are not done. Drug overdose deaths leveled off in 2022 after sharp increases from 2019 to 2021. Now, we must double down on this work, which is why my proposed budget for Fiscal Year 2024 requests a historic $46.1 billion for national drug control programs. The Congress must act to invest in solutions that will prevent these drugs from ever hitting our streets and getting into the hands of our loved ones, including by passing all of the measures called for in my Administration's 2021 recommendations to the Congress on reducing illicit fentanyl-related substances, which will strengthen public health and public safety.

Today, I grieve with all those who have lost someone to an overdose. May we find hope in the more than 20 million brave Americans recovering from substance use disorder, who show us what is possible when people have the care, treatment, and support they need. My Administration will continue to ensure that our Nation has the resources we need to address this crisis, prevent illicit drugs from reaching our communities, and finally defeat the overdose epidemic in our Nation.

NOW, THEREFORE, I, JOSEPH R. BIDEN JR., President of the United States of America, by virtue of the authority vested in me by the Constitution and the laws of the United States, do hereby proclaim August 27 through September 2, 2023, as Overdose Awareness Week. I call upon citizens, government agencies, civil society organizations, health care providers, and research institutions to raise awareness of substance use disorder so that our Nation can combat stigmatization, promote treatment, celebrate recovery, and strengthen our collective efforts to prevent overdose deaths. August 31st also marks Overdose Awareness Day, on which we honor and remember those who have lost their lives to the drug overdose epidemic.

IN WITNESS WHEREOF, I have hereunto set my hand this twenty-fifth day of August, in the year of our Lord two thousand twenty-three, and of the Independence of the United States of America the two hundred and forty-eighth.

[FR Doc. 2023-18882

Filed 8-29-23; 8:45 am]

Billing code 3395-F3-P